DEPARTMENT OF ENERGY

Federal Energy Regulatory Commission

[Project No. 5261-023]

Green Mountain Power Corporation; Notice of Intent To Prepare an Environmental Assessment

On August 27, 2021, Green Mountain Power Corporation filed an application for a subsequent minor license for the 365-kilowatt Newbury Hydroelectric Project (Newbury Project; FERC No. 5261). The Newbury Project is located on the Wells River in the Town of Newbury in Orange County, Vermont. The project does not occupy federal lands.

In accordance with the Commission's regulations, on April 6, 2022, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to relicense the Newbury Project.

The EA will be issued and circulated for review by all interested parties. All comments filed on the EA will be analyzed by staff and considered in the Commission's final licensing decision.

The application will be processed according to the following schedule. Revisions to the schedule may be made as appropriate.

Milestone | Target date
Commission issues EA | January 2023.¹
Comments on EA | February 2023.
¹ The Council on Environmental Quality's (CEQ) regulations under 40 CFR 1501.10(b)(1) require that EAs be completed within 1 year of the federal action agency's decision to prepare an EA. This notice establishes the Commission's intent to prepare an EA for the Newbury Project. Therefore, in accordance with CEQ's regulations, the EA must be issued within 1 year of the issuance date of this notice.

Any questions regarding this notice may be directed to Adam Peer at (202) 502-8449 or adam.peer@ferc.gov.

Dated: June 10, 2022.
Debbie-Anne A. Reese,
Deputy Secretary.

[FR Doc. 2022-13002 Filed 6-15-22; 8:45 am]

BILLING CODE 6717-01-P